DEPARTMENT OF THE TREASURY

Open Meeting of the Federal Advisory Committee on Insurance

AGENCY: Departmental Offices, U.S. Department of the Treasury.

ACTION: Notice of open meeting.

SUMMARY: This notice announces that the Department of the Treasury's Federal Advisory Committee on Insurance will convene a meeting on Wednesday, September 18, 2013, in the Cash Room, 1500 Pennsylvania Avenue NW., Washington, DC 20220, from 1:30-4:30 p.m. Eastern Time. The meeting is open to the public, and the site is accessible to individuals with disabilities.

DATES: The meeting will be held on Wednesday, September 18, 2013, from 1:30-4:30 p.m. Eastern Time.

ADDRESSES: The Federal Advisory Committee on Insurance meeting will be held in the Cash Room, 1500 Pennsylvania Avenue NW., Washington, DC 20220. The meeting will be open to the public. Because the meeting will be held in a secured facility, members of the public who plan to attend the meeting must contact the Federal Insurance Office (Office), at (202) 622-6910, by 5:00 p.m. Eastern Time on Friday, September 13, 2013, to inform the Office that they would like to attend the meeting. Members of the public must provide the Office the following information for entry into the building: first and last name, organization, date of birth, social security number, and country of citizenship.

FOR FURTHER INFORMATION CONTACT: James P. Brown, Senior Policy Advisor to the Federal Insurance Office, Room 2100, Department of the Treasury, 1425 New York Avenue NW., Washington, DC 20220, at (202) 622-6910 (this is not a toll-free number). Persons who have difficulty hearing or speaking may access this number via TTY by calling the toll-free Federal Relay Service at (800) 877-8339.

SUPPLEMENTARY INFORMATION: Notice of this meeting is provided in accordance with the Federal Advisory Committee Act, 5 U.S.C. App. II, 10(a)(2), through implementing regulations at 41 CFR 102-3.150.

Public Comment: Members of the public wishing to comment on the business of the Federal Advisory Committee on Insurance are invited to submit written statements by any of the following methods:

Electronic Statements

• Send electronic comments to faci@treasury.gov.

Paper Statements

• Send paper statements in triplicate to the Federal Advisory Committee on Insurance, Room 2100, Department of the Treasury, 1425 New York Avenue NW., Washington, DC 20005.

The Department of the Treasury will post all statements on its Web site http://www.treasury.gov/about/organizational-structure/offices/Pages/Federal-Insurance.aspx without change, including any business or personal information provided such as names, addresses, email addresses, or telephone numbers. The Department of the Treasury will also make such statements available for public inspection and copying in the Department of the Treasury's Library, 1500 Pennsylvania Avenue NW., Washington, DC 20220, on official business days between the hours of 10:00 a.m. and 5:00 p.m. Eastern Time. You can make an appointment to inspect statements by telephoning (202) 622-0990. All statements, including attachments and other supporting materials, received are part of the public record and subject to public disclosure. You should submit only information that you wish to make available publicly.

Tentative Agenda/Topics for Discussion: This is a periodic meeting of the Federal Advisory Committee on Insurance. In this meeting, the Federal Advisory Committee on Insurance will discuss perspectives on the Terrorism Risk Insurance Act of 2002,¹ regulatory developments regarding reinsurance captives, international insurance activities, and updates from its subcommittees.

¹ Pub. L. 107-297, 116 Stat. 2322, 15 U.S.C. 6701 note (as amended by the Terrorism Risk Insurance Extension Act of 2005, P.L. 109-144, 119 Stat. 2660 and the Terrorism Risk Insurance Program Reauthorization Act of 2007, Pub L. 110-160, 121 Stat. 1842).

Dated: August 26, 2013.
Rebecca H. Ewing,
Executive Secretary.

[FR Doc. 2013-21362 Filed 8-30-13; 8:45 am]

BILLING CODE 4810-25-P